OFFICE OF SCIENCE AND TECHNOLOGY POLICY

Subcommittee on Forensic Science; Committee on Science; National Science and Technology Council

ACTION: Notice of meeting. Public input is requested concerning Automated Fingerprint Identification System (AFIS) interoperability and the appropriate Federal Executive Branch responses to the AFIS interoperability issues identified in the National Academy of Sciences 2009 report: “Strengthening Forensic Science in the United States: A Path Forward” (http://www.nap.edu/catalog.php?record_id=12589#toc).

SUMMARY: The Subcommittee on Forensic Science (SoFS) of the National Science and Technology Council's (NSTC's) Committee on Science will host a public forum in collaboration with the annual scientific meeting of the American Academy of Forensic Sciences (AAFS). The role of the SoFS is to coordinate Federal activities and advise the Executive Office of the President on national efforts to improve forensic science and its application in America's justice system. This special session will serve to provide the public with the opportunity to ask questions and provide comments on issues related to Automated Fingerprint Identification System (AFIS) latent print interoperability.

Dates and Addresses: The session will be held in conjunction with the 63rd Annual Scientific Meeting of the American Academy of Forensic Sciences, at the Hyatt Regency Hotel, Columbus Hall KL, located at 151 East Wacker Drive, Chicago, Illinois 60601. The session will be held on Friday, February 25, 2011, from 7 p.m. to 8:30 p.m. Information regarding the 63rd AAFS Annual Meeting is available at the AAFS Web site: http://www.aafs.org.

Note: Persons solely attending the SoFS public session do not need to register for the AAFS Annual Meeting to attend. There will be no admission charge for persons solely attending the public meeting. Seating is limited and will be on a first come, first served basis. For those who cannot attend but wish to provide written comments or questions, please do so by sending an e-mail to the Subcommittee's Executive Secretary, Robin Jones, at: Robin.W.Jones@usdoj.gov, no later than Wednesday, February 16, 2011.

FOR FURTHER INFORMATION CONTACT: Additional information and links to the Subcommittee on Forensic Science can be obtained through the Office of Science and Technology Policy's NSTC Web site at http://www.ostp.gov/nstc or by calling 202-456-6012.

Kenneth E. Melson,
Co-Chair, Subcommittee on Forensic Science.

[FR Doc. 2011-2440 Filed 2-2-11; 8:45 am]

BILLING CODE 4410-FY-P